GENERAL SERVICES ADMINISTRATION

41 CFR Chs. 101, 102, 105, 300, 301, and 304

48 CFR Chapter 5

Unified Agenda of Federal Regulatory and Deregulatory Actions

AGENCY: General Services Administration (GSA).

ACTION: Semiannual Regulatory Agenda.

SUMMARY: This agenda announces the proposed regulatory actions that GSA plans for the next 12 months and those that were completed since the fall 2016 edition. This agenda was developed under the guidelines of Executive Order 12866 “Regulatory Planning and Review.” GSA's purpose in publishing this agenda is to allow interested persons an opportunity to participate in the rulemaking process. GSA also invites interested persons to recommend existing significant regulations for review to determine whether they should be modified or eliminated. Published proposed rules may be reviewed in their entirety at the Government's rulemaking Web site at http://www.regulations.gov.

Since the fall 2007 edition, the Internet has been the basic means for disseminating the Unified Agenda. The complete Unified Agenda will be available online at www.reginfo.gov, in a format that offers users a greatly enhanced ability to obtain information from the Agenda database.

Because publication in the Federal Register is mandated for the regulatory flexibility agendas required by the Regulatory Flexibility Act (5 U.S.C. 602), GSA's printed agenda entries include only:

(1) Rules that are in the Agency's regulatory flexibility agenda, in accordance with the Regulatory Flexibility Act, because they are likely to have a significant economic impact on a substantial number of small entities; and

(2) Any rules that the Agency has identified for periodic review under section 610 of the Regulatory Flexibility Act.

Printing of these entries is limited to fields that contain information required by the Regulatory Flexibility Act's Agenda requirements. Additional information on these entries is available in the Unified Agenda published on the Internet. In addition, for fall editions of the Agenda, the entire Regulatory Plan will continue to be printed in the Federal Register, as in past years, including GSA's regulatory plan.

FOR FURTHER INFORMATION CONTACT: Joanne Sosa, Regulatory Secretariat Division at (202) 501-4755.

Dated: March 31, 2017.
Giancarlo Brizzi,
Acting Associate Administrator, Office of Government-wide Policy.

General Services Administration—Final Rule Stage
Sequence No. | Title | Regulation Identifier No.
200 | General Services Administration Acquisition Regulation (GSAR) GSAR Case 2015-G512, Unenforceable Commercial Supplier Agreement Terms | 3090-AJ67
201 | General Services Administration Acquisition Regulation (GSAR); GSAR2016-G506, Federal Supply Schedule, Order-Level Materials | 3090-AJ75
202 | General Services Administration Acquisition Regulation (GSAR); GSAR Case 2013-G502, Federal Supply Schedule Contracting (Administrative Changes) | 3090-AJ41

GENERAL SERVICES ADMINISTRATION (GSA)

Office of Acquisition Policy

Final Rule Stage

200. General Services Administration Acquisition Regulation (GSAR); GSAR Case 2015-G512, Unenforceable Commercial Supplier Agreement Terms

Legal Authority: 40 U.S.C. 121(c)

Abstract: GSA is amending the General Services Administration Acquisition Regulation (GSAR) to streamline the evaluation process to award contracts containing commercial supplier agreements Government and industry often spend significant time negotiating elements common in almost every commercial supplier agreement where the terms conflict with federal law. Past negotiations would always lead to deleting the terms from the contract, but only after several rounds of legal review by both parties. This case would explore methods for automatically nullifying these common terms out of contracts.

Timetable:

Action | Date | FR Cite
NPRM | 05/31/16 | 81 FR 34302
NPRM Comment Period End | 08/01/16 |
Final Rule | 06/00/17 |

Regulatory Flexibility Analysis Required: Yes.

Agency Contact: Janet Fry, Program Analyst, DOD/GSA/NASA (FAR), 1800 F Street NW., Washington, DC 20405, Phone: 703 605-3167, Email: janet.fry@gsa.gov.

RIN: 3090-AJ67

201. General Services Administration Acquisition Regulation (GSAR); GSAR 2016-G506, Federal Supply Schedule, Order-Level Materials

Legal Authority: 40 U.S.C. 121(c)

Abstract: The General Services Administration (GSA) is amending the General Services Administration Acquisition Regulation (GSAR) to clarify the authority to acquire order-level materials when placing a task order or establishing a Blanket Purchase Agreement (BPA) against a Federal Supply Schedule (FSS) contract. This proposed rule seeks to provide clear and comprehensive implementation of the ability to acquire order-level materials through the FSS program to create parity between FSS contracts and commercial indefinite-delivery/indefinite-quantity (IDIQ) contracts, reduce the need to conduct less efficient procurement transactions, lower barriers of entry to the Federal marketplace and make it easier to do business with the Federal Government.

Timetable:

Action | Date | FR Cite
NPRM | 09/09/16 | 81 FR 62445
NPRM Comment Period End | 11/08/16 |
Final Rule | 06/00/17 |

Regulatory Flexibility Analysis Required: Yes.

Agency Contact: Leah Price, Procurement Analyst, General Services Administration, 1800 F Street NW., Washington, DC 20405, Phone: 703 605-2558, Email: leah.price@gsa.gov.

RIN: 3090-AJ75

Office of Governmentwide Policy

202. General Services Administration Acquisition Regulation (GSAR); GSAR Case 2013-G502, Federal Supply Schedule Contracting (Administrative Changes)

Legal Authority: 40 U.S.C. 121(c)

Abstract: The General Services Administration (GSA) is proposing to amend the General Services Administration Acquisition Regulation (GSAR) to clarify and update the contracting by negotiation GSAR section and incorporate existing Federal Supply Schedule Contracting policies and procedures, and corresponding provisions and clauses. This case is included in GSA's retrospective review of existing regulations under Executive Order 13563. Additional information is located in GSA's retrospective review (2015), available at: www.gsa.gov/improvingregulations.

Timetable:

Action | Date | FR Cite
NPRM | 09/10/14 | 79 FR 54126
NPRM Comment Period End | 11/10/14 |
Final Rule | 06/00/17 |

Regulatory Flexibility Analysis Required: Yes

Agency Contact: Dana L. Munson, Procurement Analyst, General Services Administration, 1800 F Street NW., Washington, DC 20405, Phone: 202 357-9652, Email: dana.munson@gsa.gov.

RIN: 3090-AJ41

[FR Doc. 2017-17062 Filed 8-23-17; 8:45 am]

BILLING CODE 6820-34-P